DEPARTMENT OF ENERGY

Federal Energy Regulatory Commission

[Docket Nos. CP17-495-000, PF17-4-000, CP17-494-000, PF17-4-000]

Jordan Cove Energy Project, L.P.; Pacific Connector Gas Pipeline, LP; Notice of Applications

Take notice that on September 21, 2017, Jordan Cove Energy Project, L.P. (Jordan Cove), 5615 Kirby Drive, Suite 500, Houston, Texas 77005, filed in Docket No. CP17-495-000 an application under section 3 of the Natural Gas Act (NGA) and Part 153 of the Commission's regulations, seeking authorization to site, construct and operate a natural gas liquefaction and liquefied natural gas (LNG) export facility (LNG Terminal) on the bay side of the North Spit of Coos Bay in unincorporated Coos County, Oregon. The LNG Terminal will be capable of receiving up to 1,200,000 dekatherms per day (Dth/d) of natural gas via the Pacific Connector Gas Pipeline, liquefying it, storing it in two cryogenic storage tanks, and loading the LNG onto ocean going vessels for export, all as more fully set forth in the application which is on file with the Commission and open to public inspection.

Also take notice that on September 21, 2017, Pacific Connector Gas Pipeline, LP (Pacific Connector), 5615 Kirby Drive, Suite 500, Houston, Texas 77005, filed an application in Docket No. CP17-494-000, pursuant to section 7(c) of the NGA, and Parts 157 and 284 of the Commission's regulations, for: (1) A certificate of public convenience and necessity (i) authorizing Pacific Connector to construct, install, own, and operate a new, approximately 229-mile natural gas pipeline under Part 157, Subpart A of the Commission's regulations, (ii) approving the pro forma Tariff and non-conforming provisions submitted herewith, and (iii) approving the proposed initial rates for service; (2) a blanket certificate authorizing Pacific Connector to engage in certain self-implementing routine activities under Part 157, Subpart F, of the Commission's regulations; and (3) a blanket certificate authorizing Pacific Connector to transport natural gas, on an open access and self-implementing basis, under Part 284, Subpart G of the Commission's regulations, all as more fully set forth in the application which is on file with the Commission and open to public inspection. Copies of this filing are available for review at the Commission in the Public Reference Room, or may be viewed on the Commission's Web site web at http://www.ferc.gov using the “eLibrary” link. Enter the docket number excluding the last three digits in the docket number field to access the document. For assistance, contact FERC at FERCOnlineSupport@ferc.gov or call toll-free, (886) 208-3676 or TTY, (202) 502-8659.

Questions regarding this application should be directed to Rose Haddon, Director, Regulatory Affairs, Jordan Cove Energy Project, L.P., 5615 Kirby Drive, Suite 500, Houston, Texas 77005, or by telephone at 866-227-9249, or email at: rose.haddon@jordancovelng.com.

On February 10, 2017, the Commission staff granted Jordan Cove's request to utilize the Pre-Filing Process and assigned Docket No. PF17-4-000 to staff activities involved with Jordan Cove's LNG Terminal and the Pacific Connector. Now, as of the filing of the application on September 21, 2017, the Pre-Filing Process for this project has ended. From this time forward, this proceeding will be conducted in Docket No. CP17-495-000 for the Jordan Cove Energy Project and in Docket No. CP17-494-000 for the Pacific Connector, as noted in the caption of this Notice.

Within 90 days after the Commission issues a Notice of Application for the applications in the two instant dockets, the Commission staff will issue a Notice of Schedule for Environmental Review that will indicate the anticipated date for the Commission's staff issuance of the final EIS analyzing both proposals. The issuance of a Notice of Schedule for Environmental Review will also serve to notify federal and state agencies of the timing for the completion of all necessary reviews, and the subsequent need to complete all federal authorizations within 90 days of the date of issuance of the Commission staff's final EIS.

There are two ways to become involved in the Commission's review of this project. First, any person wishing to obtain legal status by becoming a party to the proceedings for this project should, before the comment date of this notice, file with the Federal Energy Regulatory Commission, 888 First Street NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 7 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

The Commission strongly encourages electronic filings of comments, protests, and interventions via the internet in lieu of paper. See 18 CFR 385.2001(a)(1)(iii) and the instructions on the Commission's Web site (www.ferc.gov) under the e-Filing link. Persons unable to file electronically should submit an original and 5 copies of the protest or intervention to the Federal Energy Regulatory Commission, 888 First Street NE., Washington, DC 20426.

Comment Date: 5:00 p.m. Eastern Time on October 26, 2017.

Dated: October 5, 2017.
Kimberly D. Bose,
Secretary.

[FR Doc. 2017-22004 Filed 10-11-17; 8:45 am]

BILLING CODE 6717-01-P